ENVIRONMENTAL PROTECTION AGENCY

40 CFR Part 52

[EPA-R05-OAR-2013-0214; FRL-9914-24-Region 5]

Approval and Promulgation of Air Quality Implementation Plans; Indiana; Solvent Degreasing Operations Rule

AGENCY: Environmental Protection Agency (EPA).

ACTION: Direct final rule.

SUMMARY: The Environmental Protection Agency (EPA) is approving a request submitted by the Indiana Department of Environmental Management (IDEM) on March 14, 2013, to revise the Indiana state implementation plan (SIP) solvent degreasing operation rule. The state's submission seeks to extend vapor pressure limitations (previously applying to four counties) state-wide, add certain exemptions and streamline the rule by repealing and consolidating certain provisions. There is also a revised definition for “cold cleaner degreaser.”

DATES: This direct final rule will be effective September 23, 2014, unless EPA receives adverse comments by August 25, 2014. If adverse comments are received, EPA will publish a timely withdrawal of the direct final rule in the Federal Register informing the public that the rule will not take effect.

ADDRESSES: Submit your comments, identified by Docket ID No. EPA-R05-OAR-2013-0214, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2013-0214. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Charles Hatten, Environmental Engineer, (312) 886-6031 before visiting the Region 5 office.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov.

SUPPLEMENTARY INFORMATION: Throughout this document whenever “we,” “us,” or “our” is used, we mean EPA. This supplementary information section is arranged as follows:

I. What is the background for this action?

II. What revision did the State request be incorporated into the SIP?

III. What action is EPA taking today and what is the basis for this action?

IV. Statutory and Executive Order Reviews

I. What is the background for this action?

On March 14, 2013, the IDEM submitted a request to revise 326 Indiana Administrative Code (IAC), Article 8, Rule 3, organic solvent degreasing operation (326 IAC 8-3) in Indiana's SIP. Revisions to this rule would: Extend the solvent low pressure requirement for cold cleaner degreasers to the entire state; add certain exemptions and streamline the rule by repealing and consolidating certain provisions. Revisions to the Definitions regulation would revise the definition for “cold cleaner degreaser” (326 IAC 1-2-18.5).

On October 5, 2012, IDEM published a “Notice of Public Information” in several newspapers, and on their Web site at http://www.in.gov/idem/5474.htm, providing a 30-day public comment period on the proposed revision to its SIP concerning organic solvent degreasing operations. The notice also informed the public that a hearing was scheduled for November 7, 2012. A public hearing was held on November 7, 2012. IDEM did not receive any comments.

This revised regulation applies to any person operating a degreaser using solvents that contain one or more volatile organic compounds (VOCs) located in the state. VOCs contribute to the formation of ozone.

Solvent degreasing operations are an integral part of many industries as solvents or solvent vapors are used to remove water soluble contaminants, such as grease, oils, waxes, carbon deposits, fluxes, and tars from metal, plastic, glass, and other surfaces. Emissions of VOCs occur as a result of evaporation from storage and handling, and use of fresh and spent solvents. Solvents that are not recycled or disposed of may eventually be emitted to the atmosphere. Solvent degreasing operations may utilize one of the three methods of cleaning an article: (1) Use of cold cleaner degreaser, (2) an open top degreaser, or (3) the use of a conveyor degreaser system.

II. What revision did the State request be incorporated into the SIP?

IDEM has requested the following revisions to Indiana's SIP:

Rule 326 IAC 8-3, “Organic Solvent Degreasing Operation”

IDEM revised 326 IAC 8-3 as follows: (1) Exemptions were added to 326 IAC 8-3-1, (2) sections 326 IAC 8-3-5, 326 IAC 8-3-6, and 326 IAC 8-3-7 were repealed and consolidated into sections 326 IAC 8-3-2, 326 IAC 8-3-3, and 326 IAC 8-3-4, and (3) the one (1) millimeter of mercury (mm Hg) solvent vapor pressure restriction for cold cleaner degreasers was made state-wide. The applicability section of 326 IAC 8-3-1, states that it applies to the following: (1) All persons owning or operating degreasers using solvents that contain one or more VOCs located in the state, (2) any person who sells, offers for sale, uses, or manufactures solvents that contain one or more VOCs for use in cold cleaner degreasers. These changes are consistent with the approved SIP.

IDEM also revised the applicability of 326 IAC 8-3-1 by adding certain exemptions. Section (d) of 326 IAC 8-3 states that the solvent degreasing operations and control requirements identified in 326 IAC 8-3-2 through 326 IAC 8-3-4 do not apply to degreasers that: (1) Are required to operate and comply with 326 IAC 20-6-1 that incorporates by reference the National Emission Standard for Hazardous Air Pollutants (NESHAP) at 40 CFR 63, subpart T—for halogenated solvent cleaning (which controls both hazardous air pollutant (HAP) and VOC emissions; (2) use solvents that contains less than one percent VOC by weight. Also, the rule states that the solvent material requirements in section 8 of 326 IAC 8-3, do not apply to degreasers that: (1) Are required to operate and comply with 326 IAC 20-15-1 that incorporates by reference the NESHAP at 40 CFR 63, subpart GG—for aerospace manufacturing & rework facilities not located in Clark, Floyd, Lake, or Porter County; or (2) use solvents that contain less than one percent VOC by weight.

These changes are acceptable and approvable into Indiana's SIP for the following reasons: (1) The NESHAP in 40 CFR 63, subpart T—for halogenated solvent cleaning has similar operational requirements to those in 326 IAC 8-3-2 thru 8-4, (2) the aerospace manufacturing exemption from the 1 mm Hg vapor pressure limitation does not relax this requirement where it previously applied in Clark, Floyd, Lake, and Porter counties and (3) sources that primarily use water-borne solvents for cleaning, containing less than one percent VOC by weight, will emit less VOCs than those using VOCs that comply with the operational requirements of this rule.

In order to streamline the structure of the rule, IDEM repealed sections 326 IAC 8-3-5, 326 IAC 8-3-6, and 326 IAC 8-3-7 to consolidate rule requirements into sections 326 IAC 8-3-2 (Cold cleaner degreaser operation), 326 IAC 8-3-3 (Open top vapor degreaser operation), and 326 IAC 8-3-4 (Conveyorized degreaser operation). This consolidation clarifies the rule language and its requirements. These changes are consistent with the approved SIP.

Lastly, the revisions to 326 IAC 8-3 extend the solvent material requirements applicable to users, providers, and manufacturers of solvents for use in cold cleaner degreasers at 328 IAC 8-3-8, on and after January 1, 2015, state-wide. Indiana's solvent degreasing operation rule contains a cold cleaning solvent vapor pressure limit that stipulates—“no person shall operate a cold cleaner degreaser with a solvent vapor pressure that exceeds one (1) millimeter of mercury measured at twenty (20) degrees Celsius.” Previously, this rule requirement only applied to cold cleaning degreaser operations located in Clark, Floyd, Lake, and Porter counties. Limiting the solvent vapor pressure to 1 mmHg on a state-wide basis would strengthen Indiana's SIP to reduce emission of VOCs and the formation of ozone from cold cleaner degreaser operations.

Rule 326 IAC 1-2-18.5, Definition of “Cold Cleaner Degreaser”

IDEM made a minor revision to its definition of cold cleaner degreaser. Currently in SIP rule 326 IAC 1-2-18.5, a “cold cleaner degreaser” means a tank containing organic solvent at a temperature below the boiling point of the solvent that is used to spray, brush, flush, or immerse an article for the purpose of cleaning or degreasing the article. The rule has been revised by adding language to clarify that the definition of a cold cleaner degreaser does not include the activity of wiping to clean the article.

EPA finds that the revisions to Indiana's organic solvent degreasing operation rule at 326 IAC 8-3, and the definition of cold cleaner degreaser at 1-2-18.5, are acceptable, and approvable into the Indiana SIP. Much of the revised rule is consistent with the approved SIP. The main revision expands the 1 mmHg vapor pressure restriction for cold cleaning degreasers from only applying to Clark, Floyd, Lake, and Porter counties to the entire state.

III. What action is EPA taking today and what is the basis for this action?

EPA is approving the March 14, 2013, request by Indiana to revise the SIP's solvent degreasing operation rule at 326 IAC 8-3, and the definition of cold cleaner degreaser at 326 IAC 1-2-18.5.

We are publishing this action without prior proposal because we view this as a noncontroversial amendment and anticipate no adverse comments. However, in the proposed rules section of this Federal Register publication, we are publishing a separate document that will serve as the proposal to approve the state plan if relevant adverse written comments are filed. This rule will be effective September 23, 2014 without further notice unless we receive relevant adverse written comments by August 25, 2014. If we receive such comments, we will withdraw this action before the effective date by publishing a subsequent document that will withdraw the final action. All public comments received will then be addressed in a subsequent final rule based on the proposed action. The EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective September 23, 2014.

IV. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 23, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Emissions Reporting, Incorporation by reference, Ozone, Volatile organic compounds.

Dated: July 14, 2014.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. In § 52.770 the table in paragraph (c) is amended by:

a. Revising the entry for 1-2-18.5 under “Article 1. General Provisions,” “Rule 2. Definitions.”

b. Revising the entries for “Rule 3. Organic Solvent Degreasing Operations” under the subheading entitled “Article 8. Volatile Organic Compound Rules”.

The revised text reads as follows:

§ 52.770 Identification of plan.

* * * * *

(c) * * *

EPA-Approved Indiana Regulations
Indiana citation | Subject | Indiana effective date | EPA approval date | Notes
* * * * * * *
Article 1. General Provisions
* * * * * * *
Rule 2. Definitions
* * * * * * *
1-2-18.5 | “Cold cleaner degreaser” defined | 3/1/2013 | 7/25/2014, [INSERT Federal Register CITATION] |
* * * * * * *
Article 8. Volatile Organic Compound Rules
* * * * * * *
Rule 3. Organic Solvent Degreasing Operations
8-3-1 | Applicability and Exemptions | 3/1/2013 | 7/25/2014, [INSERT Federal Register CITATION] |
8-3-2 | Cold cleaner degreaser control equipment and operating requirements | 3/1/2013 | 7/25/2014, [INSERT Federal Register CITATION] |
8-3-3 | Open top vapor degreaser operation | 3/1/2013 | 7/25/2014, [INSERT Federal Register CITATION] |
8-3-4 | Conveyorized degreaser control equipment and operating requirements | 3/1/2013 | 7/25/2014, [INSERT Federal Register CITATION] |
8-3-5 | Cold cleaner degreaser operation and control (Repealed) | 3/1/2013 | 7/25/2014, [INSERT Federal Register CITATION] |
8-3-6 | Open top vapor degreaser operation and control requirements (Repealed) | 3/1/2013 | 7/25/2014, [INSERT Federal Register CITATION] |
8-3-7 | Conveyorized degreaser operation and control (Repealed) | 3/1/2013 | 7/25/2014, [INSERT Federal Register CITATION] |
8-3-8 | Material requirements for cold cleaner degreasers | 3/1/2013 | 7/25/2014, [INSERT Federal Register CITATION] |
* * * * * * *

* * * * *

[FR Doc. 2014-17476 Filed 7-24-14; 8:45 am]

BILLING CODE 6560-50-P